DEPARTMENT OF TRANSPORTATION

Federal Aviation Administration

14 CFR Part 73

[Docket No. FAA-2001-8683;Airspace Docket No. 01-ASW-2]

RIN 2120-AA66

Modification of Restricted Area R-6312 Cotulla, TX

Correction

In final rule document 01-27159 beginning on page 54435 in the issue of Monday, October 29, 2001, make the following correction:

§ 73.63 [Corrected]

On page 54436, in the first column, in § 73.63, under the heading R-6312 Cotulla, TX, in the second paragraph, in the third line, “28°′141″ N.” should read, “28°17′41″ N.”.

[FR Doc. C1-27159 Filed 12-5-01; 8:45 am]

BILLING CODE 1505-01-D

DEPARTMENT OF THE TREASURY

Departmental Offices; Proposed Collection; Comment Request

Correction

In notice document 01-27268 appearing on page 56192 in the issue of Tuesday, November 6, 2001, make the following correction:

On page 56192, in the first column, in the DATES section, in the second line, “January 7, 2001” should read, “January 7, 2002”.

[FR Doc. C1-27268 Filed 12-5-01; 8:45 am]

BILLING CODE 1505-01-D